DEPARTMENT OF HEALTH AND HUMAN SERVICES

Health Resources and Services Administration

Centers for Disease Control and Prevention (CDC)/Health Resources and Services Administration (HRSA) Advisory Committee on HIV, Viral Hepatitis and Sexually Transmitted Diseases (STD) Prevention and Treatment; Notice of Meeting

In accordance with section 10(a)(2) of the Federal Advisory Committee Act (Pub. L. 92-463), notice is hereby given of the following meeting:

Name: CDC/HRSA Advisory Committee on HIV, Viral Hepatitis and STD Prevention and Treatment (CHACHSPT).

Date and Time: July 28, 2015, 3:00 p.m.-4:00 p.m.

Place: This meeting is accessible via audio conference call and Adobe Connect Pro.

Status: This meeting is open to the public. The virtual meeting is available via teleconference line and Adobe Connect Pro Meeting and will accommodate approximately 100 people. Join the meeting by:

1. (Audio Portion) Calling the Toll-free Phone Number 1-800-369-3340 and providing the Public Participant Pass Code 8527572; and

2. (Visual Portion) Connecting to the Advisory Committee Adobe Connect Pro Meeting using the following URL: https://hrsa.connectsolutions.com/cdc-hrsa_AC/. (Copy and paste the above link into your browser if it does not work directly). Participants should call and connect 15 minutes prior to the meeting in order for logistics to be set up. Call (301) 443-9684 or send an email to sgordon@hrsa.gov if you have any questions, or send an email to CWilliams2@hrsa.gov if you are having trouble connecting to the meeting site.

Purpose: This Committee is charged with advising the Director, CDC, and the Acting Administrator, HRSA, regarding activities related to prevention and control of HIV/AIDS, Viral Hepatitis and other STDs, the support of health care services to persons living with HIV/AIDS, and the education of health professionals and the public about HIV/AIDS, Viral Hepatitis, and other STDs.

Agenda: Agenda items include: (1) Discuss and vote on the “Resolution to express CHACHSPT's recognition on the 25th Anniversary of the Ryan White CARE Act”; and (2) hear the orientation session and discuss the purpose and role of the CHACHSPT. Agenda items are subject to change as priorities dictate.

FOR FURTHER INFORMATION CONTACT: Shelley B. Gordon, Senior Public Health Analyst, Health Resources and Services Administration, HIV/AIDS Bureau, Division of Policy and Data, 5600 Fishers Lane, Room 7C-26, Rockville, Maryland 20857, telephone (301) 443-9684, fax (301) 443-3343, or email sgordon@hrsa.gov.

Jackie Painter,
Director, Division of the Executive Secretariat.

[FR Doc. 2015-15283 Filed 6-22-15; 8:45 am]

BILLING CODE 4165-15-P